DEPARTMENT OF THE INTERIOR

National Park Service

[NPS-WASO-NAGPRA-11017; 2200-1100-665]

Notice of Inventory Completion: Southern Oregon Historical Society, Medford, OR

AGENCY: National Park Service, Interior.

ACTION: Notice.

SUMMARY: The Southern Oregon Historical Society has completed an inventory of human remains and associated funerary objects, in consultation with the appropriate Indian tribes, and has determined that there is no cultural affiliation between the remains and any present-day Indian tribe. Representatives of any Indian tribe that believes itself to be culturally affiliated with the human remains may contact the Southern Oregon Historical Society. Disposition of the human remains and associated funerary objects to the Indian tribe stated below may occur if no additional requestors come forward.

DATES: Representatives of any Indian tribe that believes it has a cultural affiliation with the human remains should contact the Southern Oregon Historical Society at the address below by September 24, 2012.

ADDRESSES: Tina Reuwsaat, Southern Oregon Historical Society, 106 N. Central Ave., Medford, OR 97501, telephone (541) 858-1724 ext. 1001.

SUPPLEMENTARY INFORMATION: Notice is here given in accordance with the Native American Graves Protection and Repatriation Act (NAGPRA), 25 U.S.C. 3003, of the completion of an inventory of human remains and associated funerary objects in the possession of the Southern Oregon Historical Society, Medford, OR. The human remains and associated funerary objects were removed from a site near the village of Buncom, in Jackson County, OR.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Southern Oregon Historical Society professional staff in consultation with representatives of the Confederated Tribes of the Grand Ronde Community of Oregon and the Cow Creek Band of Umpqua Indians of Oregon. The following tribes were contacted without response: Confederated Tribes of Coos, Lower Umpqua and Siuslaw Indians of Oregon; Confederated Tribes of Siletz Indians of Oregon (previously listed as the Confederated Tribes of the Siletz Reservation); Coquille Tribe of Oregon; and the Quartz Valley Indian Community of the Quartz Valley Reservation of California.

History and Description of the Remains

Sometime prior to 1952, human remains representing, at minimum, two individuals, were collected by O.N. Snavely from a site near the village of Buncom, in Jackson County, OR. Mr. Snavely “found this grave while mining” on private land along the Little Applegate River, two miles from the confluence with the Big Applegate river at the mouth of Carberry Creek. In 1952, Mr. Snavely donated the human remains and associated funerary objects to the Southern Oregon Historical Society. The collection includes ten human teeth. No known individuals were identified. The 387 associated funerary objects include 1 metate; 1 metal cowbell; 1 small metal cow bell; 1 metal powder flask; 1 rusted frying pan; 1 copper cooking pan; 1 piece of a broken china saucer; 1 white saucer; 4 fragments of a broken cup; 3 pieces of an inkwell; 1 wood knife handle; 1 metal knife handle; 2 rusted tablespoons; 2 pieces of a pocket watch; 2 rusted bullet molds; 7 small bells; 2 pieces of a pair of scissors; 1 metal part with rings; 1 large knife with a curved blade; 1 knife blade with beads attached; 2 gold rings; 8 shells; 97 dentalia shells; 4 uniform buttons; 5 separate bags of beads; 96 thimbles; 17 buttons of various sizes; 8 rusted metal rings; 1 elk tooth with a drilled hole; 86 white shell beads; 22 pine nut beads; and 6 small glass medicine bottles.

Determinations Made by the Southern Oregon Historical Society

Officials of the Southern Oregon Historical Society have determined that:

• Based on collection records and analysis by archaeologist Dr. Ted Goebel, the human remains are Native American.

• Pursuant to 25 U.S.C. 3001(2), a relationship of shared group identity cannot be reasonably traced between the Native American human remains and any present-day Indian tribe.

• Credible lines of evidence indicate that the land from which the Native American human remains and associated funerary objects were removed is the aboriginal land of the Confederated Tribes of the Grand Ronde Community of Oregon.

• Pursuant to 25 U.S.C. 3001(9), the human remains described in this notice represent the physical remains of two individuals of Native American ancestry.

• Pursuant to 25 U.S.C. 3001(3)(A), the 387 objects described above are reasonably believed to have been placed with or near individual human remains at the time of death or later as part of the death rite or ceremony.

• Pursuant to 43 CFR 10.11(c)(1), the disposition of the human remains is to the Confederated Tribes of the Grand Ronde Community of Oregon.

Additional Requestors and Disposition

Representatives of any Indian tribe that believes itself to be culturally affiliated with the human remains or any other Indian tribe that believes it satisfies the criteria in 43 CFR 10.11(c)(1) should contact Tina Reuwsaat at the Southern Oregon Historical Society, 106 N. Central Avenue, Medford, OR 97520, telephone (541) 858-1724 ext. 1001, before September 24, 2012. Disposition of the human remains and associated funerary objects to the Grand Ronde Community of Oregon may proceed after that date if no additional requestors come forward.

The Southern Oregon Historical Society is responsible for notifying the Confederated Tribes of the Grand Ronde Community of Oregon and the Cow Creek Band of Umpqua Indians of Oregon that this notice has been published.

Dated: August 6, 2012.
Sherry Hutt,
Manager, National NAGPRA Program.

[FR Doc. 2012-20885 Filed 8-23-12; 8:45 am]

BILLING CODE 4312-50-P